DEPARTMENT OF COMMERCE

International Trade Administration

[A-552-831]

Seamless Refined Copper Pipe and Tube From the Socialist Republic of Vietnam: Postponement of Preliminary Determination in the Less-Than-Fair-Value Investigation

AGENCY: Enforcement and Compliance, International Trade Administration, Department of Commerce.

DATES: Applicable November 18, 2020.

FOR FURTHER INFORMATION CONTACT: Ariela Garvett, AD/CVD Operations, Office IV, Enforcement and Compliance, International Trade Administration, U.S. Department of Commerce, 1401 Constitution Avenue NW, Washington, DC 20230; telephone: (202) 482-3609.

SUPPLEMENTARY INFORMATION:

Background

On July 20, 2020, the Department of Commerce (Commerce) initiated the less-than-fair value (LTFV) investigation of imports of seamless refined copper pipe and tube (copper pipe and tube) from the Socialist Republic of Vietnam (Vietnam).¹ Currently, the preliminary determination is due no later than December 7, 2020.

¹ See Seamless Refined Copper Pipe and Tube from the Socialist Republic of Vietnam: Initiation of Less-Than-Fair-Value Investigation, 85 FR 47181 (August 4, 2020).

Postponement of the Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On November 5, 2020, the petitioner ² submitted a timely request that Commerce postpone the preliminary determination in this LTFV investigation.³ The petitioner stated that it requests postponement to provide adequate time for Commerce to analyze complex issues, to accommodate extensions of time provided to the respondent to complete the questionnaire and supplemental questionnaires, and to provide Commerce additional time to conduct a thorough analysis, including by issuing additional supplemental questionnaires.⁴

² The petitioner is the American Copper Tube Coalition, the members of which are Mueller Copper Tube Products, Inc.; Mueller Copper Tube West Co.; Mueller Copper Tube Company, Inc.; Howell Metal Company; and Linesets, Inc. (collectively, Mueller Group) and Cerro Flow Products, LLC.

³ See Petitioner's Letter, “Seamless Refined Copper Pipe and Tube from Vietnam: Request to Extend Preliminary Results,” dated November 5, 2020.

⁴ Id. at 1.

For the reasons stated above and because there are no compelling reasons to deny the request, Commerce, in accordance with section 733(c)(1)(A) of the Act, is postponing the deadline for the preliminary determination by 50 days (i.e., 190 days after the date on which this investigation was initiated). As a result, Commerce will issue its preliminary determination no later than January 26, 2021. In accordance with section 735(a)(1) of the Act and 19 CFR 351.210(b)(1), the deadline for the final determination in this investigation will continue to be 75 days after the date of the preliminary determination, unless postponed at a later date.

This notice is issued and published pursuant to section 733(c)(2) of the Act and 19 CFR 351.205(f)(1).

Dated: November 12, 2020.
Jeffrey I. Kessler,
Assistant Secretary for Enforcement and Compliance.

[FR Doc. 2020-25449 Filed 11-17-20; 8:45 am]

BILLING CODE 3510-DS-P